DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. chapter 35) and 5 CFR 1320.5. The following are those information collections recently submitted to OMB.

1. HHS Procurement: Solicitations and Contracts—0990-0115—Extension—This clearance request covers the general information collection requirements of the procurement process such as technical proposals and statements of work. Respondents: State, local or Tribal governments, businesses or other for-profit, non-profit institutions, small businesses. Annual Number of Respondents: 4,269; Frequency of Response: one time; Average Burden per Response: 231.03 hours; Total Burden: 986,280.

OMB Desk Officer: Allison Herron Eydt.

Copies of the information collection packages listed above can be obtained by calling the OS Reports Clearance Officer on (202) 690-6207. Written comments and recommendations for the proposed information collection should be sent directly to the OMB desk officer designed above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington DC 20201. Written comments should be received within 30 days of this notice.

Dated: June 19, 2001.
Kerry Weems,
Acting Deputy Assistant Secretary, Budget.

[FR Doc. 01-18135 Filed 7-19-01; 8:45 am]

BILLING CODE 4150-24-M